DEPARTMENT OF JUSTICE

Notice of Lodging of Proposed First Modification to Consent Decree Under the Clean Air Act

In 2012, the United States District Court for the Western District of Pennsylvania entered a Consent Decree in the case of United States, et al. v. Essroc Cement Corp., Civil No. 2:11-cv-01650-DSC (“2012 Consent Decree”), which resolved claims arising under the Clean Air Act against the defendant. The 2012 Consent Decree covers all of Essroc's U.S. cement plants. On November 10, 2015, the United States lodged a proposed “First Modification to Consent Decree” in the same case. The proposed First Modification only affects the defendant's cement plants in Indiana and Puerto Rico.

The proposed First Modification to Consent Decree resolves a dispute that arose under the 2012 Consent Decree. In December 2013, the U.S. Environmental Protection Agency (EPA) rejected Essroc's Selective Catalytic Reduction (SCR) Pilot Study Report for the Logansport, Indiana cement plant. Essroc disputed EPA's action and initiated the dispute resolution procedure provided by the 2012 Consent Decree. Under the proposed First Modification to Consent Decree, Essroc will perform a new SCR Pilot Study and will accept more stringent NOX emission standards than originally provided by the 2012 Consent Decree on certain facilities, but will not have to permanently install SCR on one of its Indiana cement kilns even if the Pilot Study demonstrates the viability of SCR, as a NOX control system on that kiln.

The State of Indiana and the Commonwealth of Puerto Rico are co-plaintiff settlors on the original Consent Decree. Indiana agrees to give up the permanent installation of SCR on an Indiana cement kiln and stipulated penalties for violations of the Consent Decree at Essroc's Indiana facilities in exchange for: Performance of an SCR demonstration project in Indiana; more stringent NOX emission limits on two cement kilns located in Speed, Indiana; ammonia continuous emission monitoring systems on two Logansport kilns; and an enhanced mitigation project at the Logansport facility. Puerto Rico agrees to give up stipulated penalties for violations of the Consent Decree at Essroc's San Juan cement plant in exchange for more stringent NOX emission limits on that facility.

The publication of this notice opens a period for public comment on the proposed First Modification to Consent Decree. Comments should be addressed to the Assistant Attorney General, Environment and Natural Resources Division, and should refer to United States, et al., v. Essroc Cement Corp., Civil No. 2:11-cv-01650, D.J. Ref. No. 90-5-2-1-09608. All comments must be submitted no later than twenty (20) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the First Modification to Consent Decree may be examined and downloaded at this Justice Department Web site: http://www.justice.gov/enrd/consent-decrees. We will provide a paper copy of the First Modification to Consent Decree upon written request and payment of reproduction costs. Please mail your request and payment to: Settlement Agreement Library, U.S. DOJ—ENRD, P.O. Box 7611, Washington, DC 20044-7611.

Please enclose a check or money order for $4.00 (25 cents per page reproduction cost) payable to the United States Treasury. For a paper copy without the signature pages, the cost is $2.25.

Bob Brook,
Assistant Section Chief, Environmental Enforcement Section, Environment and Natural Resources Division.

[FR Doc. 2015-29577 Filed 11-19-15; 8:45 am]

BILLING CODE 4410-15-P